DEPARTMENT OF COMMERCE

Foreign-Trade Zones Board

[B-48-2019]

Foreign-Trade Zone (FTZ) 29—Louisville, Kentucky; Authorization of Production Activity; Amcor Flexibles L.L.C. (Flexible Packaging); Shelbyville, Kentucky

On July 29, 2019, Amcor Flexibles L.L.C. submitted a notification of proposed production activity to the FTZ Board for its facility within FTZ 29, in Shelbyville, Kentucky.

The notification was processed in accordance with the regulations of the FTZ Board (15 CFR part 400), including notice in the Federal Register inviting public comment (84 FR 37987, August 5, 2019). On November 26, 2019, the applicant was notified of the FTZ Board's decision that no further review of the activity is warranted at this time. The production activity described in the notification was authorized, subject to the FTZ Act and the FTZ Board's regulations, including Section 400.14.

Dated: November 26, 2019.
Andrew McGilvray,
Executive Secretary.

[FR Doc. 2019-26149 Filed 12-2-19; 8:45 am]

BILLING CODE 3510-DS-P